DEPARTMENT OF HOUSING AND URBAN DEVELOPMENT

[Docket No. FR-4912-N-17]

Notice of Availability of a Final Environmental Impact Statement for the Development of Stillwater Business Park, City of Redding, CA

AGENCY: Office of the Assistant Secretary for Community Planning and Development, HUD.

ACTION: Notice.

SUMMARY: HUD gives notice to the public, agencies, and Indian tribes that the City of Redding, CA, makes available to the public for comment the Final Environmental Impact Statement/Final Environmental Impact Report (FEIS/FEIR) for the Stillwater Business Park project located in Redding CA. The City of Redding, CA has prepared the FEIS/FEIR under its authority as the Responsible Entity for compliance with the National Environmental Policy Act (NEPA) in accordance with 24 CFR 58.4, and under its authority as lead agency in accordance with the California Environmental Quality Act (CEQA). This notice is given in accordance with the Council on Environmental Quality regulations at 40 CFR parts 1500-1508. A HUD Economic Development Initiative (EDI) special purpose grant would be used for the project. Environmental Protection Agency (EPA) State and Tribal Assistance Grants (STAG) will also fund water and wastewater related infrastructure. EPA is acting as a cooperating agency for this process.

DATES: Comments Due Date: Comments due no later than March 24, 2006. Comments on the FEIS/FEIR should be addressed to the contact person listed below.

FOR FURTHER INFORMATION CONTACT: Nathan Cherpeski, City of Redding, 777 Cypress Ave., Redding, CA 96001, at (530) 225-4519 or ncherpeski@ci.redding.ca.us. The FEIS/FEIR is available on the Internet and can be viewed or downloaded at: http://ci.redding.ca.us/cm/major_pr/still_buspk.html. Copies of the DEIS and Draft EIS/EIR are also available for viewing at the following locations:

City of Redding, Permit Center, 777 Cypress Ave., Redding, CA 96001.

City of Anderson Planning Department, 1887 Howard Street, Anderson, CA 96007.

Shasta County Library—Anderson Branch, 3200 West Center, Anderson, CA 96007.

Shasta County Department of Resource Management, Planning Division, 1855 Placer Street, Redding, CA 96001.

Shasta County Library, 1855 Shasta Street, Redding, CA 96001.

SUPPLEMENTARY INFORMATION: A Notice of Intent to prepare a draft EIS was published May 11, 2004. Scoping meetings were held on April 4, 2001, August 12, 2003, and June 2, 2004, to determine the issues for the EIS/EIR. A DEIS/DEIR was completed in May 2005. The DEIS/DEIR was the subject of public comments, both oral and written, provided by agencies, interested groups, and individuals, at a public hearing on April 12, 2005, and during the DEIS public comment period which extended from March 18, 2005, through May 2, 2005.

As a result of comments received and after meetings with EPA, USFWS, USACOE, and the California Department of Fish and Game, the City of Redding circulated a Supplemental Draft Environmental Impact Statement (SDEIS/DEIR) with a comment period from September 30, 2005, through November 14, 2005. A public open house was held October 26, 2005. Significant changes were made to the preferred alternative in the SDEIR/DEIR. Those changes are reflected in the preferred alternative described in the FEIS/FEIR. Developable acreage has been reduced and the size of the open space preserve has increased.

The preferred alternative is the development of a medium-to-large parcel business park through the acquisition of land, construction of major infrastructure components, and the provision of public services and utilities to serve the development. The City of Redding is proposing the development of the area east and northeast of the Municipal Airport in Redding, California. The proposed action study area is located on the Enterprise and Cottonwood, California 7.5-minute USGS quadrangles, Township 31 North, Range 4 West, Sections 2, 3, 10, 14, 15, 22, 23, 26, 34, and 35. A portion of the proposed location is classified as industrial and a portion as park under the Redding General Plan, adopted in 2000. The purpose and need for this project is to increase the activity of contributory economic sectors by constructing a medium to large parcel business park within the City of Redding sphere of influence capable of attracting and accommodating diverse business and industrial users.

The original proposal called for an approximate 687-acre business park consisting of 383 acres of developable land for a total of 4,410,400 sq. ft. of improvements for professional offices and industrial users. The preferred alternative calls for an approximate 687-acre business park consisting of 343 acres of developable land for a total of 4,323,000 sq. ft. of improvements for professional offices and industrial users.

Discussion of Mitigation Measures: Comments received focused on impacts to wetlands, endangered species, growth inducing impacts, and cumulative effects. The FEIS/FEIR contains mitigation measures to address these and other areas. Impacts to wetlands and sensitive species will be mitigated on site in the nearly 300-acre open space preserve area. The preferred alternative was redesigned in the supplement to remove all impacts to the adjoining Stillwater Plains Mitigation Bank from surface hydrology. Buffer areas and set-backs have been incorporated into the project description. Impacts to traffic and other areas have also been addressed.

Questions may be directed to the individual named above under the heading FOR FURTHER INFORMATION CONTACT.

Dated: February 10, 2006.
Pamela H. Patenaude,
Assistant Secretary for Community, Planning and Development.

[FR Doc. E6-2429 Filed 2-21-06; 8:45 am]

BILLING CODE 4210-27-P